OFFICE OF PERSONNEL MANAGEMENT

Submission for Review: Expiring Information Collection 3206-0182, Declaration for Federal Employment, Optional Form (OF) 306

AGENCY: U.S. Office of Personnel Management.

ACTION: 30-Day Notice and request for comments.

SUMMARY: Federal Investigative Services (FIS), U.S. Office of Personnel Management (OPM) offers the general public and other Federal agencies the opportunity to comment on an information collection request (ICR), Office of Management and Budget (OMB) Control No. 3206-0182, for the Declaration for Federal Employment, Optional Form (OF) 306. As required by the Paperwork Reduction Act of 1995, (Pub. L. 104-13, 44 U.S.C. chapter 35) as amended by the Clinger-Cohen Act (Pub. L. 104-106), OPM is soliciting comments for this collection. The Office of Management and Budget (OMB) is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until December 1, 2010. This process is conducted in accordance with 5 CFR 1320.1.

ADDRESSES: Interested persons are invited to submit written comments on the proposed information collection to the Office of Information and Regulatory Affairs, Office of Management and Budget, 725 17th Street, NW., Washington, DC 20503, Attention: Desk Officer for the Office of Personnel Management or sent via electronic mail to oira_submission@opm.eop.gov or faxed to (202) 395-6974; and FIS, OPM, 1900 E Street, NW., Washington, DC 20415, Attention: Lisa Loss or sent via electronic mail to FISFormsComments@opm.gov.

FOR FURTHER INFORMATION CONTACT: A copy of this ICR, with applicable supporting documentation, may be obtained by contacting FIS, OPM, 1900 E Street, NW., Washington, DC 20503, Attention: Lisa Loss or sent via electronic mail to FISFormsComments@opm.gov.

SUPPLEMENTARY INFORMATION: This notice announces that OPM submitted OMB a request for review and clearance of the revised collection of information, Declaration for Federal Employment Optional Form (OF) 306 (OMB Control No. 3206-0182).

The OF 306 is completed by applicants who are under consideration for Federal or Federal contract employment. It collects information about an applicant's selective service registration, military service, and general background. The information collected on this form is mainly used to determine a person's acceptability for Federal and Federal contract employment. However, if necessary, and usually in conjunction with another form or forms, the information on this form may be used in conducting an investigation to determine a person's suitability or ability to hold a security clearance, and it may be disclosed to authorized officials making similar, subsequent determinations.

The OF 306 requests that the applicant provide personal identifying data, including past convictions, imprisonments, probations, paroles or military court martial, delinquency on a Federal debt, Selective Service Registration, United States military service and Federal civilian or military retirement pay or pension received or applied for. It is estimated that 178,114 individuals will respond annually. Each form takes approximately 15 minutes to complete. The annual estimated burden is 44,529 hours.

The 60-day Federal Register Notice was published in the Federal Register on April 19, 2010 (Federal Register Notices/Volume 75, Number 74, page 20399). Comments from the Department of Treasury (Treasury), Minerals Management Service, U.S. Department of Agriculture Office of Human Resources Management (USDA-HRM), USDA Rural Development, and General Services Administration (GSA) iterated the need for continuing this information collection to assist Federal agencies during the hiring process. Treasury, USDA-HRM, and GSA specifically commented on the public burden statement and characterized the burden as accurate and valid.

In addition, comments from Federal agencies and members of the public made recommendations for adjustments to the form. The Department of Treasury (Treasury) recommended that OPM develop an automated version of the form to include electronic signature to minimize the burden on job candidates and streamline the hiring process. OPM will take this recommendation for future consideration. OPM accepted comments from Treasury regarding formatting changes for the collection of middle names and suffixes.

OPM accepted Treasury's recommendation to collect the country of citizenship of the respondent in order to assist agencies in the hiring process for the majority of Federal positions that may be filled only by U.S. citizens. OPM did not accept Treasury's recommendation to collect information as to whether the respondent has been arrested/charged but will consider including this question in future revisions to the investigative questionnaire for non-sensitive positions. OPM intends to limit the scope of the collection for conviction, imprisonment, probation, parole, and military court-martial to the past 7 years vice 10 in order to align this collection with the collection of information on investigative questionnaires which generate collection of local law enforcement records. OPM particularly invites comment during this 30-day notice period regarding these proposed changes to the collection.

OPM rejected a comment from a member of the public to collect the lifetime criminal record from the respondent. OPM also rejected a comment from a member of the public that recommended that Federal employment and Federal contract employment be extended only to persons with at least a GED or high school diploma as the comment was outside of the scope of the request for comments on the proposed collection.

John Berry,
Director, U.S. Office of Personnel Management.

[FR Doc. 2010-27544 Filed 10-29-10; 8:45 am]

BILLING CODE 6325-53-P